DEPARTMENT OF COMMERCE

National Technical Information Service

Agency Information Collection Activities; Submission to the Office of Management and Budget (OMB) for Review and Approval; Extension of Currently Approved Information Collection; Comment Request; Limited Access Death Master File Systems Safeguards Attestation Forms

AGENCY: National Technical Information Service, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 28, 2020.

ADDRESSES: Interested persons are invited to submit written comments by mail to Daniel Ramsey, Supervisory Program Manager, Office of Program Management, National Technical Information Service, Department of Commerce or by email to dramsey@ntis.gov or PRAcomments@doc.gov. Please reference OMB Control Number 0692-0016 in the subject line of your comments. Do not submit Confidential Business Information or otherwise sensitive or protected information.

FOR FURTHER INFORMATION CONTACT: Requests for additional information or specific questions related to collection activities should be directed to Daniel Ramsey, Supervisory Program Manager, Office of Program Management, National Technical Information Service, Department of Commerce, 5301 Shawnee Road, Alexandria, VA 22312, email: dramsey@ntis.gov or telephone: 703-605-6703.

SUPPLEMENTARY INFORMATION:

I. Abstract

Title of Information Collection:

(A) “Limited Access Death Master File (LADMF) Accredited Conformity Assessment Body Systems Safeguards Attestation Form” (ACAB Systems Safeguards Attestation Form)

(B) “Limited Access Death Master File (LADMF) State or Local Government Auditor General (AG) or Inspector General (IG) Systems Safeguards Attestation Form” (AG or IG Systems Safeguards Attestation Form)

This notice informs the public that the National Technical Information Service (NTIS) is requesting approval for extension of the above information collection for use in connection with the final rule for the “Certification Program for Access to the Death Master File.” The final rule was promulgated under Section 203 of the Bipartisan Budget Act of 2013, Public Law 113-67 (Act) and published on June 1, 2016 (81 FR 34882). The rule became effective on November 28, 2016 (15 CFR part 1110). No changes are being proposed to the currently approved information collection.

The Act prohibits the Secretary of Commerce (Secretary) from disclosing DMF information during the three-year period following an individual's death (Limited Access DMF), unless the person requesting the information has been certified to access the Limited Access DMF pursuant to certain criteria in a program that the Secretary establishes. The Secretary delegated the authority to carry out Section 203 to the Director of NTIS.

To accommodate the requirements of the final rule, NTIS is using both the ACAB Systems Safeguards Attestation Form and the AG or IG Systems Safeguards Attestation Form.

The ACAB Systems Safeguards Attestation Form requires an “Accredited Conformity Assessment Body” (ACAB), as defined in the final rule, to attest that a Person seeking certification or a Certified Person seeking renewal of certification has information security systems, facilities and procedures in place to protect the security of the Limited Access DMF, as required under Section 1110.102(a)(2) of the final rule. The ACAB Systems Safeguards Attestation Form collects information based on an assessment by the ACAB conducted within three years prior to the date of the Person or Certified Person's submission of a completed certification statement under Section 1110.101(a) of the final rule. This collection includes specific requirements of the final rule, which the ACAB must certify are satisfied, and the provision of specific information by the ACAB, such as the date of the assessment and the auditing standard(s) used for the assessment.

Section 1110.501(a)(2) of the final rule provides that a state or local government office of AG or IG and a Person or Certified Person that is a department or agency of the same state or local government, respectively, are not considered to be owned by a common “parent” entity under Section 1110.501(a)(1)(ii) for the purpose of determining independence, and attestation by the AG or IG is possible. The AG or IG Systems Safeguards Attestation Form is for the use of a state or local government AG or IG to attest on behalf of a state or local government department or agency Person or Certified Person. The AG or IG Systems Safeguards Attestation Form requires the state or local government AG or IG to attest that a Person seeking certification or a Certified Person seeking renewal of certification has information security systems, facilities and procedures in place to protect the security of the Limited Access DMF, as required under Section 1110.102(a)(2) of the final rule. The AG or IG Systems Safeguards Attestation Form collects information based on an assessment by the state or local government AG or IG conducted within three years prior to the date of the Person or Certified Person's submission of a completed certification statement under Section 1110.101(a) of the final rule. This collection includes specific requirements of the final rule, which the state or local government AG or IG must certify are satisfied, and the provision of specific information by the state or local government AG or IG, such as the date of the assessment.

II. Method of Collection

The information will be collected by paper format, email, mail, and fax.

III. Data

OMB Control Number: 0692-0016.

Form Number(s): NTIS FM100A and NTIS FM100B.

Type of Review: Regular submission: extension of a current information collection.

Affected Public: Accredited Conformity Assessment Bodies and state or local government Auditors General or Inspectors General attesting that a Person seeking certification or a Certified Person seeking renewal of certification under the final rule for the “Certification Program for Access to the Death Master File” has information security systems, facilities and procedures in place to protect the security of the Limited Access DMF, as required by the final rule.

Estimated Number of Respondents: ACAB Systems Safeguards Attestation Form: NTIS expects to receive approximately 250 ACAB Systems Safeguards Attestation Forms from Persons and Certified Persons annually.

AG or IG Systems Safeguards Attestation Form: NTIS expects to receive approximately30 AG or IG Systems Safeguards Attestation Forms from Persons and Certified Persons annually.

Estimated Time Per Response: ACAB Systems Safeguards Attestation Form: 3 hours. AG or IG Systems Safeguards Attestation Form: 3 hours.

Estimated Total Annual Burden Hours: ACAB Systems Safeguards Attestation Form: 750 (250 × 3 hours = 750 hours). AG or IG Systems Safeguards Attestation Form: 90 (30 × 3 hours = 90 hours).

Estimated Total Annual Cost to Public: ACAB Systems Safeguards Attestation Form: NTIS expects to receive approximately 250 ACAB Systems Safeguards Attestation Forms annually at a fee of $525 per form, for a total cost of $131,250. This total annual cost reflects the cost to the Federal Government for the ACAB Systems Safeguards Attestation Forms, which consists of the expenses associated with NTIS personnel reviewing and processing these forms. NTIS estimates that it will take an ACAB's senior auditor three hours to complete the form at a rate of approximately $135 per hour, for a total additional cost to the public of $101,250 (750 burden hours × $135/hour = $101,250). NTIS estimates the total annual cost to the public for the ACAB Systems Safeguards forms to be $232,500 ($131,250 in fees + $101,250 in staff time = $232,500).

AG or IG Systems Safeguards Attestation Form: NTIS expects to receive approximately 30 AG or IG Systems Safeguards Attestation Forms annually at a fee of $525 per form, for a total cost of $15,750. This total annual cost reflects the cost to the Federal Government for the AG or IG Systems Safeguards Attestation Forms, which consists of the expenses associated with NTIS personnel reviewing and processing these forms. NTIS estimates that it will take an AG or IG senior auditor three hours to complete the form at a rate of approximately $100 per hour, for a total additional cost to the public of $9,000 (90 burden hours x $100/hour = $9,000). NTIS estimates the total annual cost to the public for AG or IG Systems Safeguards Attestation Forms to be $24,750 ($15,750 in fees + $9,000 in staff time = $24,750).

NTIS estimates the total annual cost to the public for both the ACAB Systems Safeguards Attestation Forms and the AG or IG Systems Safeguards Attestation Forms to be $257,250 ($232,500 for ACAB Systems Safeguards Attestation Forms + $24,750 for AG or IG Systems Safeguards Attestation Forms).

Respondent's Obligation: Voluntary.

Legal Authority: Section 203 of the Bipartisan Budget Act of 2013, Public Law 113-67; 15 CFR part 1110.

IV. Request for Comments

We are soliciting public comments to permit the Department to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Review (ICR). Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-13897 Filed 6-26-20; 8:45 am]

BILLING CODE 3510-13-P